DEPARTMENT OF ENERGY

Federal Energy Regulatory Commission

[Docket No. EL16-12-000]

Midcontinent Independent System Operator, Inc.; Notice of Institution of Section 206 Proceeding and Refund Effective Date

On March 29, 2016, the Commission issued an order in Docket No. EL16-12-000, pursuant to section 206 of the Federal Power Act (FPA), 16 U.S.C. 824e (2012), instituting an investigation into the justness and reasonableness of Midcontinent Independent System Operator, Inc.'s Open Access Transmission, Energy and Operating Reserve Markets Tariff. Midcontinent Independent System Operator, Inc., 154 FERC ¶ 61,248 (2016).

The refund effective date in Docket No. EL16-12-000, established pursuant to section 206(b) of the FPA, will be the date of publication of this notice in the Federal Register.

Dated: March 30, 2016.
Nathaniel J. Davis, Sr.,
Deputy Secretary.

[FR Doc. 2016-07727 Filed 4-4-16; 8:45 am]

BILLING CODE 6717-01-P